DEPARTMENT OF TRANSPORTATION

Federal Aviation Administration

14 CFR Part 97

[Docket No. 30905; Amdt. No. 3540]

Standard Instrument Approach Procedures, and Takeoff Minimums and Obstacle Departure Procedures; Miscellaneous Amendments

AGENCY: Federal Aviation Administration (FAA), DOT.

ACTION: Final rule.

SUMMARY: This rule establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective June 21, 2013. The compliance date for each SIAP, associated Takeoff Minimums, and ODP is specified in the amendatory provisions.

The incorporation by reference of certain publications listed in the regulations is approved by the Director of the Federal Register as of June 21, 2013.

ADDRESSES: Availability of matters incorporated by reference in the amendment is as follows:

For Examination—

1. FAA Rules Docket, FAA Headquarters Building, 800 Independence Avenue SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue SW., Washington, DC 20591; or

2. The FAA Regional Office of the region in which the affected airport is located.

FOR FURTHER INFORMATION CONTACT: Richard A. Dunham III, Flight Procedure Standards Branch (AFS-420), Flight Technologies and Programs Divisions, Flight Standards Service, Federal Aviation Administration, Mike Monroney Aeronautical Center, 6500 South MacArthur Blvd., Oklahoma City, OK 73169, (Mail Address: P.O. Box 25082, Oklahoma City, OK 73125) Telephone: (405) 954-4164.

SUPPLEMENTARY INFORMATION: This rule amends Title 14 of the Code of Federal Regulations, Part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the, associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR part 97

Air Traffic Control, Airports, Incorporation by reference, and Navigation (Air).

Issued in Washington, DC on June 7, 2013.
John M. Allen,
Director, Flight Standards Service.

Adoption of the Amendment

Accordingly, pursuant to the authority delegated to me, Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

* * * Effective 27 June 2013

Klawock, AK, Klawock, RNAV (GPS) RWY 2, Orig

* * * Effective 25 July 2013

Mesa, AZ, Falcon Fld, RNAV (GPS) RWY 4R, Amdt 1A

Ontario, CA, Ontario Intl, RNAV (GPS) Y RWY 8L, Amdt 1C

Meriden, CT, Meriden Markham Muni, RNAV (GPS) RWY 36, Orig-A

Princeton, KY, Princeton-Caldwell County, RNAV (GPS) RWY 5, Orig

Princeton, KY, Princeton-Caldwell County, RNAV (GPS) RWY 23, Orig

Princeton, KY, Princeton-Caldwell County, Takeoff Minimums and Obstacle DP, Orig

East Tawas, MI, Iosco County, RNAV (GPS) RWY 8, Orig

East Tawas, MI, Iosco County, Takeoff Minimums and Obstacle DP, Amdt 1

East Tawas, MI, Iosco County, VOR-A, Amdt 8

Austin, MN, Austin Muni, RNAV (GPS) RWY 17, Amdt 1

Austin, MN, Austin Muni, VOR/DME-A, Amdt 3

Minneapolis, MN, Minneapolis-St Paul Intl/Wold-Chamberlain, RNAV (RNP) Y RWY 35, Amdt 1

Paynesville, MN, Paynesville Muni, RNAV (GPS) RWY 11, Amdt 1

Paynesville, MN, Paynesville Muni, RNAV (GPS) RWY 29, Amdt 1

Camdenton, MO, Camdenton Memorial, RNAV (GPS) RWY 15, Amdt 1

Camdenton, MO, Camdenton Memorial, RNAV (GPS) RWY 33, Amdt 1

Camdenton, MO, Camdenton Memorial, Takeoff Minimums and Obstacle DP, Amdt 2

Sikeston, MO, Sikeston Memorial Muni, Takeoff Minimums and Obstacle DP, Amdt 1

Sikeston, MO, Sikeston Memorial Muni, VOR/DME RWY 2, Amdt 3

Antigo, WI, Langlade County, NDB RWY 16, Amdt 6, CANCELED

Antigo, WI, Langlade County, RNAV (GPS) RWY 9, Orig

Antigo, WI, Langlade County, RNAV (GPS) RWY 17, Amdt 2

Antigo, WI, Langlade County, RNAV (GPS) RWY 27, Orig

Antigo, WI, Langlade County, RNAV (GPS) RWY 35, Amdt 2

Hayward, WI, Sawyer County, LOC/DME RWY 20, Amdt 1B

* * * Effective 22 August 2013

Huslia, AK, Huslia, VOR/DME RWY 3, Orig-A

Bay Minette, AL, Bay Minette Muni, VOR RWY 8, Amdt 8, CANCELED

Birmingham, AL, Birmingham-Shuttlesworth Intl, RNAV (GPS) RWY 36, Amdt 1A

Fort Collins/Loveland, CO, Fort Collins-Loveland Muni, RNAV (GPS) RWY 33, Amdt 1

Dover/Cheswold, DE, Delaware Airpark, RNAV (GPS) RWY 27, Amdt 1A

Melbourne, FL, Melbourne Intl, VOR RWY 27L, Amdt 13, CANCELED

Griffin, GA, Griffin-Spalding County, RNAV (GPS) RWY 14, Orig-A

Tifton, GA, Henry Tift Myers, NDB RWY 33, Amdt 1A, CANCELED

Kahului, HI, Kahului, NDB RWY 2, Orig

Kahului, HI, Kahului, NDB/DME RWY 2, Amdt 2A, CANCELED

Boone, IA, Boone Muni, RNAV (GPS) RWY 15, Amdt 1

Boone, IA, Boone Muni, RNAV (GPS) RWY 33, Amdt 1

Spencer, IA, Spencer Muni, RNAV (GPS) RWY 18, Amdt 1

Spencer, IA, Spencer Muni, RNAV (GPS) RWY 30, Amdt 1

Spencer, IA, Spencer Muni, RNAV (GPS) RWY 36, Amdt 1

Harrisburg, IL, Harrisburg-Raleigh, NDB RWY 24, Amdt 11, CANCELED

Johnson, KS, Stanton County Muni, NDB RWY 17, Amdt 2, CANCELED

Prestonsburg, KY, Big Sandy Rgnl, RNAV (GPS) RWY 3, Orig-A

Prestonsburg, KY, Big Sandy Rgnl, RNAV (GPS) RWY 21, Amdt 1B

Prestonsburg, KY, Big Sandy Rgnl, VOR/DME-A, Amdt 2A

Escanaba, MI, Delta County, RNAV (GPS) RWY 36, Orig

Farmington, MO, Farmington Rgnl, NDB RWY 2, Amdt 2C, CANCELED

Farmington, MO, Farmington Rgnl, NDB RWY 20, Amdt 3A, CANCELED

Springfield, MO, Springfield-Branson National, RNAV (GPS) RWY 32, Amdt 2

Greenwood, MS, Greenwood-Leflore, VOR RWY 5, Amdt 13

Hattiesburg, MS, Hattiesburg Bobby L. Chain Muni, VOR RWY 13, Amdt 12, CANCELED

Jackson, MS, Hawkins Field, ILS OR LOC RWY 16, Amdt 6

Meridian, MS, Key Field, ILS OR LOC RWY 1, Amdt 26

Meridian, MS, Key Field, ILS OR LOC RWY 19, Amdt 1

Meridian, MS, Key Field, VOR-A, Amdt 17

Raymond, MS, John Bell Williams, ILS OR LOC RWY 12, Amdt 1

Raymond, MS, John Bell Williams, NDB RWY 12, Amdt 3

Fargo, ND, Hector Intl, RNAV (GPS) RWY 9 Amdt 1

Fargo, ND, Hector Intl, RNAV (GPS) RWY 27 Amdt 1

Jamestown, NY, Chautauqua County/Jamestown, VOR/DME RWY 7, Amdt 4, CANCELED

Oneonta, NY, Oneonta Muni, VOR RWY 06, Amdt 4B, CANCELED

Saranac Lake, NY, Adirondack Rgnl, RNAV (GPS) RWY 23, Orig-A

Ashland, OH, Ashland County, NDB RWY 19, Amdt 11B, CANCELED

Hillsboro, OH, Highland County, Takeoff Minimums and Obstacle DP, Amdt 3

Tulsa, OK, Tulsa Intl, RNAV (RNP) Z RWY 18R, Orig-B, CANCELED

Tulsa, OK, Tulsa Intl, RNAV (RNP) Z RWY 26, Orig-C, CANCELED

Bennettsville, SC, Marlboro County Jetport-H E Avent Field, VOR/DME-A, Amdt 5, CANCELED

Lemmon, SD, Lemmon Muni, GPS RWY 29, Orig-A, CANCELED

Lemmon, SD, Lemmon Muni, RNAV (GPS) RWY 29, Orig

Lemmon, SD, Lemmon Muni, Takeoff Minimums and Obstacle DP, Amdt 1

Amarillo, TX, Rick Husband Amarillo Intl, VOR RWY 22, Orig, CANCELED

Bay City, TX, Bay City Muni, NDB RWY 13, Amdt 4A, CANCELED

Bay City, TX, Bay City Muni, VOR/DME-A, Amdt 4B

Carrizo Springs, TX, Dimmit County, RNAV (GPS) RWY 13, Orig

Carrizo Springs, TX, Dimmit County, RNAV (GPS) RWY 31, Amdt 1

Charlottesville, VA, Charlottesville-Albemarle, RNAV (GPS) Y RWY 21, Amdt 2

Charlottesville, VA, Charlottesville-Albemarle, RNAV (GPS) Z RWY 21, Amdt 1

Charlottesville, VA, Charlottesville-Albemarle, Takeoff Minimums and Obstacle DP, Amdt 10

Bremerton, WA, Bremerton National, ILS OR LOC RWY 20, Amdt 16

Bremerton, WA, Bremerton National, NDB RWY 2, Amdt 2

Bremerton, WA, Bremerton National, RNAV (GPS) RWY 2, Amdt 1

Bremerton, WA, Bremerton National, RNAV (GPS) RWY 20, Amdt 1

Osceola, WI, L O Simenstad Muni, RNAV (GPS) RWY 10, Orig

Osceola, WI, L O Simenstad Muni, RNAV (GPS) RWY 28, Amdt 1

[FR Doc. 2013-14742 Filed 6-20-13; 8:45 am]

BILLING CODE 4910-13-P